DEPARTMENT OF THE INTERIOR

Bureau of Land Management

[PO4820000251]

Notice of Availability of the Draft Environmental Impact Statement for P4 Production LLC's Caldwell Canyon Revised Mine and Reclamation Plan Project, Caribou County, Idaho

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the draft Environmental Impact Statement (EIS) for P4 Production LLC's (P4) Caldwell Canyon Revised Mine and Reclamation Plan Project (Project) in Caribou County, Idaho.

DATES: To afford the BLM the opportunity to consider comments in the Draft EIS, please ensure that the BLM receives your comments within 45 days following the date the Environmental Protection Agency (EPA) publishes its Notice of Availability (NOA) of the draft EIS in the Federal Register. The EPA usually publishes its NOAs on Fridays.

ADDRESSES: The draft EIS and associated documents are available for review on the BLM project website at https://eplanning.blm.gov/eplanning-ui/project/2026858/510.

Written comments related to the Project may be submitted by any of the following methods:

• BLM's National NEPA Register (ePlanning) at: https://eplanning.blm.gov/eplanning-ui/project/2026858/510.

• Email: BLM_ID_CaldwellRevisedMRP_EIS@blm.gov.

• Mail: Caldwell Canyon Revised Mine EIS, C/O Stantec Consulting Services Inc., 2890 East Cottonwood Parkway, Suite 300, Salt Lake City, UT 84121.

FOR FURTHER INFORMATION CONTACT: Barry Myers, project lead, at telephone (208) 559-3662; address 4350 Cliffs Drive, Pocatello, ID 83204; or email bmyers@blm.gov. Individuals in the United States who are deaf, deafblind, hard of hearing, or have a speech disability may dial 711 (TTY, TDD, or TeleBraille) to access telecommunications relay services for contacting Mr. Myers. Individuals outside the United States should use the relay services offered within their country to make international calls to the point-of-contact in the United States.

SUPPLEMENTARY INFORMATION:

Purpose and Need

The purpose of the EIS is to evaluate and respond to the Revised Mine and Reclamation Plan (RMRP) submitted for the recovery of phosphate ore contained within Federal phosphate leases IDI-02, IDI-014080, and IDI-013738, and to modify leases, in accordance with the Mineral Leasing Act of 1920, as amended.

The need for the Project is to develop the phosphate ore resource in accordance with established requirements (including, but not limited to, applicable Federal and State laws and regulations, lease terms, and land use plans) using an economically viable method, and to allow P4 the ability to exercise its right under the Mineral Leasing Act to develop the leases.

Proposed Action

P4's application proposes mining of existing Federal phosphate leases IDI-02, IDI-014080, and IDI-013738, and State of Idaho Mineral Lease E07959, by constructing two open pits, partially backfilling the inactive Dry Valley Mine South Extension Panel D pit with initial overburden materials, constructing haul and access roads, installing various utility lines, and constructing water management features, monitoring wells, shop and office facilities, while implementing environmental protection measures and reclamation.

Portions of the two open pits, the North and South Pits, would extend beyond the existing Federal and State lease boundaries. To accommodate those portions of the pits that extend outside the current Federal and State leases, P4 proposes expanding their leases in accordance with 43 CFR Subpart 3510. Operations would be conducted over an estimated 40-year period and would occur on public lands administered by the BLM, on National Forest System lands, on lands administered by the Idaho Department of Lands, and on private lands.

Total disturbance for the Project would be approximately 1,832 acres, with approximately 418 acres of disturbance having already occurred under previous approvals. The RMRP includes designs to reduce environmental impacts and to reclaim proposed disturbance. To ensure water quality requirements are met, reclamation includes a combination of earthen and synthetic reclamation cover systems.

Additional Alternatives

In addition to the Proposed Action, three action alternatives and the No Action Alternative are fully analyzed in the Draft EIS. Under Alternative 1, disturbance to public lands would be minimized by aligning the Dry Valley Area Haul Road/Access Road/Utility Corridor to avoid public lands and by not approving a Phosphate Use Permit associated with the Caldwell Canyon Service Road. Alternative 2 considers and analyzes impacts associated with not issuing the Federal lease modifications proposed by P4. Alternative 3 excludes any new disturbance and mining-related activities within designated Greater Sage-Grouse habitat to minimize impacts. The draft EIS identifies the Proposed Action as the Agency Preferred Alternative.

Public Involvement Process

The BLM will hold one virtual public meeting. The specific date of this meeting will be announced in advance through BLM's National NEPA Register (ePlanning) website https://eplanning.blm.gov/eplanning-ui/project/2026858/510. Information on how to register for the online meeting will be posted on the above website.

The BLM will continue to consult with Indian Tribal Nations on a government-to-government basis in accordance with Executive Order 13175 and other policies. Agencies will give due consideration to Tribal concerns, including impacts on Indian Trust Assets and treaty rights, and potential impacts to cultural resources.

The purpose of public review of the Draft EIS is to provide an opportunity for meaningful collaborative public engagement and for the public to provide substantive comments, such as identification of factual errors, data gaps, relevant methods, or scientific studies. The BLM will respond to substantive comments by making appropriate revisions to the EIS or explaining why a comment did not warrant a change.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Peter Ditton,
Acting State Director.

[FR Doc. 2024-30346 Filed 12-19-24; 8:45 am]

BILLING CODE 4331-21-P